SMALL BUSINESS ADMINISTRATION

Small Business Size Standards; Public Hearings

AGENCY: U.S. Small Business Administration.

ACTION: Notice of public hearings.

SUMMARY: The U.S. Small Business Administration (SBA) announces that it is holding a series of public hearings throughout the country on the topic of small business size standards and other issues such as the possible participation of businesses majority-owned by venture capital companies in the Small Business Innovation Research Program. Testimony presented at these hearings will become part of the administrative record for SBA's consideration when the Agency deliberates on approaches to simplify and restructure size standards and other changes to make size standards easier to understand and use.

DATES: The Public Hearings Section below specifies the dates and locations of the public hearings. Attendees must pre-register 5 business days prior to the scheduled hearing date.

ADDRESSES: Parties interested in testifying at or attending a public hearing must pre-register by providing a request to SBA's Office of Size Standards at Hearings.sizestandards@sba.gov.

FOR FURTHER INFORMATION CONTACT: Gary M. Jackson, Assistant Administrator for Size Standards, at (202) 205-6618 or at sizestandards@sba.gov.

SUPPLEMENTARY INFORMATION:

I. Background

On March 19, 2004, SBA published a proposed rule to simplify and restructure its small business size standards by establishing most size standards based on the number of employees of a business concern and by significantly reducing the number of different size standard levels (69 FR 13130). Based on concerns expressed by a large number of commenters, SBA decided to withdraw that proposal on July 1, 2004 (69 FR 39874). However, a large number of commenters also supported the proposal in general or supported certain aspects of the proposed changes. As a result, SBA decided to reconsider its initial approach to simplifying and restructuring size standards and seek public input on the general issue of size standards, including how best to simplify and restructure size standards.

SBA is pursuing two actions to engage the public in providing its views of SBA's size standards. First, SBA published an Advance Notice of Proposed Rulemaking (ANPRM) on December 3, 2004, requesting comment on a variety of size standards issues (69 FR 70197). Most of those issues were presented in the comments SBA had received in response to the March 19, 2004, proposed rule, but were not part of the proposed changes. SBA believes that it is beneficial to its evaluation of the comments raising those issues to provide the public at large with an opportunity to consider and comment upon them. SBA also included several issues in the ANPRM that it had under consideration as separate policy changes apart from the simplification and restructuring proposal. Specifically, the issues presented in the ANPRM consist of: (1) The approach to simplify size standards, (2) the calculation of number of employees (including how SBA defines an employee for size purposes), (3) the use of receipts-based size standards, (4) the designation of size standards for Federal procurements, (5) the establishment of separate and distinct size standards for use solely in Federal procurement programs, (6) the establishment of tiered size standards, (7) the simplification of the affiliation regulations, (8) the simplification of the small business joint venture eligibility regulations, (9) the possible grandfathering of small business eligibility, (10) the impact of SBA size standards on the regulations of other Federal agencies, and (11) the possible participation of businesses majority-owned by venture capital companies in the Small Business Innovation Research Program and the effect such participation would have on the Program. The ANPRM comment period closed on April 3, 2005.

Second, because of the significance of the size standards initiative and importance of the other issues being considered, SBA decided to conduct a series of public hearings around the country to provide interested parties with an opportunity to meet with SBA officials and discuss their views on the issues. SBA considers the public hearings a valuable component of its deliberations. While the comments received to the ANPRM are greatly assisting SBA with its deliberations, the public hearings allow for a constructive dialogue with the public on these issues enabling SBA to more fully comprehend the views of the public. This notice provides information on the purpose, format, scheduling, and registration for the public hearings.

II. Public Hearings

A panel of SBA officials will preside over 11 formal public hearings. The purpose of the hearings is to obtain the views of SBA's stakeholders on approaches to simplify and restructure size standards, to identify other policy changes which may make size standards easier to understand and use, and to obtain stakeholder views on the other issues being considered such as the possible participation of businesses majority-owned by venture capital companies in the Small Business Innovation Research Program. Oral and written testimony will be become part of the hearing record for SBA's consideration. SBA will analyze the hearing testimony along with the comments it received to the March 19, 2004, proposed rule and the December 3, 2004, ANPRM in formulating a new proposal regarding approaches simplifying and restructuring size standards, other policies to make size standards easier to use and understand, and the other issues being considered.

Individuals testifying before SBA will be limited to a 5 minute oral presentation. SBA officials may ask questions of a presenter to clarify or further explain the testimony. Since the purpose of the hearings is to assist SBA with gathering information to potentially develop new proposals, SBA will not respond as to whether it agrees with the views or position of the presenter's testimony.

SBA requests that the testimony focus on the issues discussed in the ANPRM, the general issue of simplifying size standards, other improvements to size standards, or any of the other issues identified such as the possible participation of businesses majority-owned by venture capital companies in the Small Business Innovation Research Program. SBA encourages presenters to review the ANPRM for a further discussion of the issues. SBA requests that the presenters do not raise issues pertaining to other aspects of SBA's small business programs. Issues not raised in the ANPRM are more properly suited for a different forum than these hearings. Also, the hearings are not intended for the public to petition for a change to a specific size standard. Parties interested in SBA considering a change to a particular industry size standard may submit a request to SBA as described in the small business regulations at 13 CFR 121.102.

Oral testimony will be recorded and transcribed. Presenters shall provide a written copy of their testimony. SBA will accept written material that the presenter wishes to provide that further supplements his or her testimony. SBA encourages presenters to provide SBA with an electronic or digitized copy of their written testimony and supplemental information.

III. Hearing Schedule

Location | Address | Hearing date | Registration closing date
Seattle, WA | Small Business Administration, 1200 6th Ave., Suite 1700, Seattle, Washington 98101 | June 2, 2005 | May 26, 2005.
St. Louis, MO | St. Louis Community College at Florissant Valley, Multi-Purpose Room, 3400 Pershall Road, St. Louis, MO 63135-1499 | June 2, 2005 | May 26, 2005.
Portland, ME | City Hall, 389 Congress Street, Portland, ME 04101 | June 7, 2005 | May 31, 2005.
Atlanta, GA | Atlanta Fulton County Public Library—3rd Floor Meeting Room, 1 Margaret Mitchell Square, Atlanta, GA 30303 | June 9, 2005 | June 2, 2005.
Denver, CO | U.S. Federal Building, 1961 Stout Street, Room 239, Denver, Colorado 80202 | June 14, 2005 | June 7, 2005.
New York, NY | Jacob Javitz Federal Building, 6th Floor Conference Room B, 26 Federal Plaza, New York, NY 10278 | June 16, 2005 | June 9, 2005.
Washington, DC | Small Business Administration, 409 Third Street, SW., Eisenhower Conference Room, Washington, DC 20416 | June 17, 2005 | June 10, 2005.
Chicago, IL | Ralph H. Metcalfe Federal Building, 77 West Jackson Blvd., Morrison Room, Chicago, IL 60604 | June 20, 2005 | June 13, 2005.
Dallas, TX | Bill J. Priest Institute, 1402 Corinth Ave., Dallas, TX 75215 | June 22, 2005 | June 15, 2005.
San Francisco, CA | San Francisco District Office, 455 Market Street, 6th Floor, San Francisco, CA 94105-2420 | June 28, 2005 | June 21, 2005.
Los Angeles, CA | Small Business Administration, Los Angeles District Office, 330 North Brand, Suite 1200, Glendale, CA 91203 | June 29, 2005 | June 22, 2005.

Each hearing will be held for one day. The hearings will begin at 8:30 a.m. and end at 5:30 p.m., with a break from 12:30 p.m. to 1:30 p.m., except for the Atlanta size standards hearing. The Atlanta size standards hearing will start at 9:30 a.m. and end at 6:30 p.m. SBA will adjourn the hearing early if all those registered have provided their testimony.

IV. Registration

Anyone interested in testifying must pre-register in advance with SBA. Registration requests must be received by SBA at least 5 business days prior to the scheduled hearing date. Please contact the Office of Size Standards in writing at Hearings.sizestandards@sba.gov. Please include the following information relating to the person requesting to testify: Name, Title, Organization affiliation, Address, Telephone number, E-mail address, Fax number, and which hearing the presenter wants to attend to provide testimony. SBA will attempt to accommodate all interested parties that wish to present testimony. However, time considerations limit the total number of presenters at each hearing. If the number of individuals seek to testify at a specific hearing exceeds the number permitted due to time limitations, SBA will ask if any interested parties are able to attend a different hearing, and if that is not possible, will ask those requesting to testify last in time to submit their concerns in writing. To afford all interested parties an opportunity to participate in the hearings, an individual can register for only one hearing location.

Parties that plan to attend the hearing but not testify must also pre-register. For those parties, please indicate in your registration that you will be attending the hearing but not making an oral presentation.

SBA will confirm in writing the registration of presenters and attendees for the hearings. Participants will be notified of any changes regarding the schedule or conduct of the meeting. Information concerning the public hearings will be available on SBA's Internet site at http://www.sba.gov/size.

Dated: May 5, 2005.
Allegra F. McCullough,
Associate Deputy Administrator for Government Contracting and Business Development.

[FR Doc. 05-9428 Filed 5-11-05; 8:45 am]

BILLING CODE 8025-01-P